DEPARTMENT OF JUSTICE

Federal Bureau of Investigation

[OMB Number: 1110-0009]

Agency Information Collection Activities; Proposed eCollection; eComments Requested; Extension of a Currently Approved Collection; Law Enforcement Officers Killed and Assaulted Program, Analysis of Officers Feloniously Killed and Assaulted; and Law Enforcement Officers Killed and Assaulted Program; Analysis of Officers Accidentally Killed

AGENCY: Federal Bureau of Investigation, Department of Justice.

ACTION: 30-Day notice.

SUMMARY: Department of Justice (DOJ), Federal Bureau of Investigation, Criminal Justice Information Services Division will be submitting the following information collection request to the Office of Management and Budget (OMB) for review and approval in accordance with the Paperwork Reduction Act of 1995.

DATES: The Department of Justice encourages public comment and will accept input until October 10, 2018.

FOR FURTHER INFORMATION CONTACT: Written comments and/or suggestions regarding the items contained in this notice, especially the estimated public burden and associated response time, should be directed to Mrs. Amy Blasher, Unit Chief, Federal Bureau of Investigation, CJIS Division, Module E-3, 1000 Custer Hollow Road, Clarksburg, West Virginia 26306; facsimile (304) 625-3566. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Law Enforcement Officers Killed and Assaulted Program, Analysis of Officers Feloniously Killed and Assaulted; and Law Enforcement Officers Killed and Assaulted Program, Analysis of Officers Accidentally Killed.

(3) Agency form number, if any, and the applicable component of the Department sponsoring the collection: Agency form number: 1-701 and 1-701a. Sponsoring component: Department of Justice, Federal Bureau of Investigation, Criminal Justice Information Services Division.

(4) Affected public who will be asked or required to respond, as well as a brief abstract: Primary: City, county, state, federal, and tribal law enforcement agencies. Abstract: Under Title 28, U.S. Code, Section 534, Acquisition, Preservation, and Exchange of Identification Records; Appointment of Officials, this collection requests the number of officers killed or assaulted from law enforcement agencies in order for the FBI Uniform Crime Reporting Program to serve as the national clearinghouse for the collection and dissemination of law enforcement officer death/assault data and to publish these statistics in Law Enforcement Officers Killed and Assaulted.

(5) An estimate of the total number of respondents and the amount of time estimated for an average respondent to respond/reply: There are approximately 188 law enforcement agency respondents with an estimated response time of 1 hour per report.

(6) An estimate of the total public burden (in hours) associated with the collection: There are an estimated 188 hours, annual burden, associated with this information collection.

If additional information is required contact: Melody Braswell, Department Clearance Officer, United States Department of Justice, Justice Management Division, Policy and Planning Staff, Two Constitution Square, 145 N Street NE, Suite 3E.405B, Washington, DC 20530.

Dated: September 5, 2018.
Melody Braswell,
Department Clearance Officer for PRA, U.S. Department of Justice.

[FR Doc. 2018-19519 Filed 9-7-18; 8:45 am]

BILLING CODE 4410-02-P